OFFICE OF PERSONNEL MANAGEMENT

5 CFR Part 532

RIN 3206-AN17

Prevailing Rate Systems; Special Wage Schedules for U.S. Army Corps of Engineers Flood Control Employees of the Vicksburg District in Mississippi

AGENCY: U.S. Office of Personnel Management.

ACTION: Final rule.

SUMMARY: The U.S. Office of Personnel Management (OPM) is issuing a final rule to establish special wage schedules specific to nonsupervisory, leader, and supervisory wage employees of the U.S. Army Corps of Engineers (USACE) who work at flood control dams (also known as reservoir projects) at the Vicksburg District of the Mississippi Valley Division. This final rule assigns lead agency responsibility for establishing and issuing these special wage schedules to the Department of Defense (DOD). The special wage schedules established will have rates of pay identical to the Memphis, TN, appropriated fund Federal Wage System (FWS) wage schedules and will be adjusted at the same times as those scheduled in the future.

DATES: Effective date: This regulation is effective on October 13, 2015. Applicability date: This change applies on the first day of the first applicable pay period beginning on or after December 14, 2015.

FOR FURTHER INFORMATION CONTACT: Madeline Gonzalez, by telephone at (202) 606-2858 or by email at pay-leave-policy@opm.gov.

SUPPLEMENTARY INFORMATION: On June 5, 2015, OPM issued a proposed rule (80 FR 32042) to establish special wage schedules specific to nonsupervisory, leader, and supervisory wage employees of the U.S. Army Corps of Engineers (USACE) who work at flood control dams (also known as reservoir projects) at the Vicksburg District of the Mississippi Valley Division.

The four lakes of the District are currently in two separate wage areas. The Vicksburg District of the Mississippi Valley Division is comprised of the following four lakes:

Lakes | County | Wage area
Arkabutla Lake | Tate County, MS | Memphis, TN.
Enid Lake | Yalobusha County, MS | Northern Mississippi.
Grenada Lake | Grenada County, MS | Northern Mississippi.
Sardis Lake | Panola County, MS | Memphis, TN.

Because a unique situation exists in the Vicksburg District in that all four lakes are managed as one installation, the Federal Prevailing Rate Advisory Committee (FPRAC), the national labor-management committee responsible for advising OPM on matters concerning the pay of FWS employees, recommended by majority vote that DOD establish and issue special wage schedules for USACE employees whose duty station is located in one of the lakes that comprise the Vicksburg District of the Mississippi Valley Division. This final rule will create a special wage schedule practice in this unique circumstance as recommended by FPRAC. The special wage schedules will be established using rates identical to the Memphis, TN, appropriated fund FWS wage schedule.

The 30-day comment period ended on July 6, 2015. OPM received one comment from local agency management supporting this change. These special wage schedules will apply on the first day of the first applicable pay period beginning on or after 60 days following publication of the final regulations. USACE employees with duty stations at one of the lakes of the Vicksburg District will transfer to the new special wage schedules on a step-by-step basis. No current employee will have his or her pay rate reduced as a result of implementing these new special wage schedules.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Beth F. Cobert,
Acting Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

2. Subpart B is amended by adding § 532.289 to read as follows:

§ 532.289 Special Wage Schedules for U.S. Army Corps of Engineers Flood Control Employees of the Vicksburg District in Mississippi.

(a)(1) The Department of Defense will establish special wage schedules for wage employees of the U.S. Army Corps of Engineers who work at flood control dams (also known as reservoir projects) and whose duty station is located in one of the lakes that comprise the Vicksburg District of the Mississippi Valley Division.

(2) These special wage schedules will provide rates of pay for nonsupervisory, leader, and supervisory employees. These special schedule positions will be identified by pay plan codes XR (nonsupervisory), XT (leader), and XU (supervisory).

(b) The Vicksburg District of the Mississippi Valley Division is comprised of the following four lakes:

(1) Grenada Lake in Grenada County, MS

(2) Enid Lake in Yalobusha County, MS

(3) Sardis Lake in Panola County, MS

(4) Arkabutla Lake in Tate County, MS

(c) Special wage schedules shall be established at the same time and with rates identical to the Memphis, TN, appropriated fund wage schedule.

[FR Doc. 2015-25895 Filed 10-9-15; 8:45 am]

BILLING CODE 6325-39-P